DEPARTMENT OF ENERGY

Federal Energy Regulatory Commission

[Docket No. QF87-237-018

Midland Cogeneration Venture; Limited Partnership; Notice of Application for Commission Re-Certification of Qualifying Status of an Existing Cogeneration Facility

June 3, 2008.

Take notice that on April 28, 2008, Midland Cogeneration Venture Limited Partnership (MCV), 100 Progress Place, Midland, Michigan 48640, filed an application of recertification of a facility as a qualifying cogeneration facility pursuant to 18 CFR 292.207(b) of the Commission's regulations.

MCV operates a natural gas-fired, topping cycle cogeneration facility located in Midland, Michigan, with a net electric power production capacity of 1566.2 MW.

This facility is interconnected with the Michigan Electric Transmission Company, LLC transmission system, and sells most of its capacity to Consumers Energy Company and The Dow Chemical Company pursuant to long-term purchase agreements. MCV sells the remaining unused capacity of the facility into the energy markets operated by the Midwest Independent Transmission system Operator, Inc. at market-based rates. Consumers Energy provides the facility with supplementary, back-up and maintenance power.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 20, 2008.

Kimberly D. Bose,
Secretary.

[FR Doc. E8-12940 Filed 6-9-08; 8:45 am]

BILLING CODE 6717-01-P